NATIONAL FOUNDATION ON THE ARTS AND THE HUMANITIES

National Endowment for the Humanities

Meeting of Humanities Panel

AGENCY: National Endowment for the Humanities.

ACTION: Notice of meeting.

SUMMARY: The National Endowment for the Humanities will hold twenty-three meetings of the Humanities Panel, a federal advisory committee, during August 2019. The purpose of the meetings is for panel review, discussion, evaluation, and recommendation of applications for financial assistance under the National Foundation on the Arts and the Humanities Act of 1965.

DATES: See SUPPLEMENTARY INFORMATION for meeting dates. The meetings will open at 8:30 a.m. and will adjourn by 5 p.m. on the dates specified below.

ADDRESSES: The meetings will be held at Constitution Center, 400 7th Street SW, Washington, DC 20506, unless otherwise indicated.

FOR FURTHER INFORMATION CONTACT: Elizabeth Voyatzis, Committee Management Officer, 400 7th Street SW, Room 4060, Washington, DC 20506; (202) 606-8322; evoyatzis@neh.gov.

SUPPLEMENTARY INFORMATION: Pursuant to section 10(a)(2) of the Federal Advisory Committee Act (5 U.S.C. App.), notice is hereby given of the following meetings:

1. Date: August 2, 2019

This meeting will discuss applications on the topic of Research Libraries, for the Infrastructure and Capacity Building Challenge Grants program, submitted to the Office of Challenge Grants.

2. Date: August 8, 2019

This meeting will discuss applications on the topics of African, Middle Eastern, and Asian Studies, for the Fellowships grant program, submitted to the Division of Research Programs.

3. Date: August 8, 2019

This meeting will discuss applications on the topic of Digital Preservation and Access, for the Research and Development grant program, submitted to the Division of Preservation and Access.

4. Date: August 8, 2019

This meeting will discuss applications on the topics of Latin American and Latina/o Studies, for the Fellowships grant program, submitted to the Division of Research Programs.

5. Date: August 9, 2019

This meeting will discuss applications on the topic of Social Sciences, for the Fellowships grant program, submitted to the Division of Research Programs.

6. Date: August 12, 2019

This meeting will discuss applications on the topic of Literature, for the Fellowships grant program, submitted to the Division of Research Programs.

7. Date: August 13, 2019

This meeting will discuss applications on the topics of Ancient, Medieval, and Renaissance Studies, for the Fellowships grant program, submitted to the Division of Research Programs.

8. Date: August 13, 2019

This meeting will discuss applications on the topics of Music, Dance, Theatre, and Film Studies, for the Fellowships grant program, submitted to the Division of Research Programs.

9. Date: August 13, 2019

This meeting will discuss applications on the topic of Higher Education, for the Preservation and Access Education and Training grant program, submitted to the Division of Preservation and Access.

10. Date: August 14, 2019

This meeting will discuss applications on the topics of European History and Philosophy, for the Fellowships grant program, submitted to the Division of Research Programs.

11. Date: August 14, 2019

This meeting will discuss applications on the topics of Religious Studies and Communications Studies, for the Fellowships grant program, submitted to the the Division of Research Programs.

12. Date: August 15, 2019

This meeting will discuss applications on the topics of Art History and European Literature and Studies, for the Fellowships grant program, submitted to the Division of Research Programs.

13. Date: August 15, 2019

This meeting will discuss applications on the topics of American History and Studies, for the Fellowships grant program, submitted to the Division of Research programs.

14. Date: August 15, 2019

This meeting will discuss applications on the topic of Continuing Education, for the Preservation and Access Education and Training grant program, submitted to the Division of Preservation and Access.

15. Date: August 19, 2019

This meeting will discuss applications on the topics of History, Politics, and Philosophy, for the Fellowships grant program, submitted to the Division of Research Programs.

16. Date: August 21, 2019

This meeting will discuss applications on the topic of Conservation Science, for the Research and Development grant program, submitted to the Division of Preservation and Access.

17. Date: August 26, 2019

This meeting—the first of two on this date—will discuss applications for the Humanities Initiatives at Community Colleges grant program, submitted to the Division of Education Programs.

18. Date: August 26, 2019

This meeting—the second of two on this date—will discuss applications for the Humanities Initiatives at Community Colleges grant program, submitted to the Division of Education Programs.

19. Date: August 27, 2019

This meeting will discuss applications for the Humanities Initiatives at Hispanic-Serving Institutions grant program, submitted to the Division of Education Programs.

20. Date: August 28, 2019

This meeting will discuss applications for the Humanities Initiatives at Hispanic-Serving Institutions grant program, submitted to the Division of Education Programs.

21. Date: August 28, 2019

This meeting will discuss applications for the Humanities Initiatives at Historically Black Colleges and Universities grant program, submitted to the Division of Education Programs.

22. Date: August 29, 2019

This meeting will discuss applications for the Humanities Initiatives at Hispanic-Serving Institutions grant program, submitted to the Division of Education Programs.

23. Date: August 30, 2019

This meeting will discuss applications for the Humanities Initiatives at Tribal Colleges and Universities grant program, submitted to the Division of Education Programs.

Because these meetings will include review of personal and/or proprietary financial and commercial information given in confidence to the agency by grant applicants, the meetings will be closed to the public pursuant to sections 552b(c)(4) and 552b(c)(6) of Title 5, U.S.C., as amended. I have made this determination pursuant to the authority granted me by the Chairman's Delegation of Authority to Close Advisory Committee Meetings dated April 15, 2016.

Dated: July 16, 2019.
Elizabeth Voyatzis,
Committee Management Officer, National Endowment for the Humanities.

[FR Doc. 2019-15474 Filed 7-19-19; 8:45 am]

BILLING CODE 7536-01-P